DEPARTMENT OF COMMERCE

Foreign-Trade Zones Board

[Order No. 1431]

Expansion of Foreign-Trade Zone 262, Southaven, MS

Pursuant to its authority under the Foreign-Trade Zones Act of June 18, 1934, as amended (19 U.S.C. 81a-81u), the Foreign-Trade Zones Board (the Board) adopts the following Order:

Whereas, the Northern Mississippi FTZ, Inc., grantee of Foreign-Trade Zone 262, submitted an application to the Board for authority to expand FTZ 262 to include two additional parcels at the DeSoto Trade Center in Southaven (DeSoto County), Mississippi, within the Memphis Customs port of entry (FTZ Docket 31-2005; filed 7/12/05);

Whereas, notice inviting public comment was given in the Federal Register (70 FR 41681, 7/20/05) and the application has been processed pursuant to the FTZ Act and the Board's regulations; and,

Whereas, the Board adopts the findings and recommendations of the examiner's report, and finds that the requirements of the FTZ Act and Board's regulations are satisfied, and that the proposal is in the public interest;

Now, Therefore, the Board hereby orders:

The application to expand FTZ 262 is approved, subject to the Act and the Board's regulations, including section 400.28.

Signed at Washington, DC, this 21st day of December 2005.
Joseph A. Spetrini,
Acting Assistant Secretary of Commerce for Import Administration, Alternate Chairman, Foreign-Trade Zones Board.

[FR Doc. E5-8146 Filed 12-29-05; 8:45 am]

BILLING CODE 3510-DS-P